DEPARTMENT OF THE INTERIOR

Bureau of Indian Affairs

Base Roll Dated May 2, 1996, Submitted by the Pokagon Band of Potawatomi Indians

AGENCY: Bureau of Indian Affairs, Interior.

ACTION: Notice.

SUMMARY: Pursuant to section 9(b)(2) of Pub. L. 103-323 (108 Stat. 2153), as amended, notice is given for receipt of the May 2, 1996, Base Roll of the Pokagon Band of Potawatomi Indians, containing 2,325 names of tribal members.

FOR FURTHER INFORMATION CONTACT: Anne E. Bolton, Field Representative, Michigan Field Office, 2901.5 I-75 Business Spur, Sault Ste. Marie, Michigan 49783.

SUPPLEMENTARY INFORMATION: This notice is published in the exercise of the authority delegated by the Secretary of the Interior to the Assistant Secretary—Indian Affairs by 209 DM 8. The Base Roll was received at the Bureau of Indian Affairs, Michigan Field Office on May 2, 1996. After review, corrections to the roll were made: eight names were added, three names were removed due to relinquishments, two names removed because of dual enrollment, 41 names that were listed twice were removed, 52 names were removed because of no ancestors on the historical rolls/filed after date of death/insufficient documentation. The corrected Base Roll containing the names of 2,325 tribal members was approved by Tribal Council Resolution #00-04-05-03 and submitted to the Michigan Field Office on May 11, 2000.

Dated: November 2, 2000.
Kevin Gover,
Assistant Secretary—Indian Affairs.

[FR Doc. 00-28982 Filed 11-9-00; 8:45 am]

BILLING CODE 4310-02-P